DEPARTMENT OF COMMERCE

National Oceanic and Atmospheric Administration

RIN 0648-XE324

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold a four-day meeting.

DATES: The meeting will be held on Monday, Tuesday, Wednesday, and Thursday, December 7-10, 2015, starting at 9:30 a.m. on Monday, 8:30 a.m. on Tuesday, 9 a.m. on Wednesday, and 8 a.m. on Thursday.

ADDRESSES: On Monday, December 7, the meeting will be held at O'Callaghan Hotel, 174 West Street, Annapolis, MD 21401; telephone: (410) 263-7700 and on Tuesday, Wednesday, and Thursday, December 8-10 at the Westin Annapolis, 100 Westgate Circle, Annapolis, MD 21401; telephone: (410) 972-4300.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council; telephone: (302) 526-5255.

SUPPLEMENTARY INFORMATION:

Agenda

Monday, December 7, 2015

In the morning session the Executive Committee will meet in closed session to review nominees for the Ricks E Savage Award and other awards. The Council will review and approve the Comprehensive 5-year Research Priority Plan. The Council will also review and approve policies regarding non-fishing activities that impact fish habitat.

During the afternoon session, Golden Tilefish Framework 2 will be discussed. The Council will review the public hearing document for Blueline Tilefish. The Council will review the findings from the Scientific and Statistical Committee and adjust specification recommendations for Spiny Dogfish Committee Meeting as a committee of the whole.

Tuesday, December 8, 2015

The Council will receive a report on the Pacific Fishery Management Council's experience with management of forage-species. The Council will then review and approve the list of species for inclusion in the public hearing document and approve management alternatives for National Environmental Policy Act (NEPA) analysis and public hearing document for unmanaged forage fish. The Council will discuss and adopt alternatives related the Scup GRA (Gear Restricted Areas) Framework.

During the afternoon session, the Fisheries Forum will hold a Summer Flounder Goals and Objectives Workshop to review feedback, discuss priorities for the revised FMP (fishery management plan) goals and objectives, and identity draft goals and objectives for the Summer Flounder Amendment.

Wednesday, December 9, 2015

The Demersal Committee Meeting will meet as a Committee of the Whole with the Atlantic States Marine Fisheries Commission's (ASMFC) Summer Flounder, Scup, and Black Sea Bass Board. They will discuss the Monitoring and Technical Committees recommendations on 2016 Summer Flounder, Scup, and Black Sea Bass commercial management measures and recommend any changes to the commercial management measures. There will be a Board Action regarding an ASMFC Addendum for summer flounder. The Council will review recommendations from the Monitoring Committee and Advisory Panel then adopt recommendations for the 2016 Summer Flounder recreational management measures. The Council will discuss the timeline and give an update on the progress for the Summer Flounder Amendment. There will be a Board Action regarding an ASMFC Addendum for black sea bass. The Council will review recommendations from the Monitoring Committee and Advisory Panel then adopt recommendations for the 2016 Black Sea Bass and Scup recreational management measures.

Thursday, December 10, 2015

The Council will receive a presentation regarding the Greater Atlantic Regional Fisheries Office (GARFO) Recreational Implementation Plan and receive a report from the Northeast Fisheries Science Center (NEFSC) regarding the NEFSC Strategic Plan. The Council will review and approve their 2016 Implementation Plan. The day will conclude with brief reports from the National Marine Fisheries Service's GARFO and the Northeast Fisheries Science Center, NOAA's Office of General Counsel and Office of Law Enforcement, the U.S. Coast Guard, the ASMFC, the New England and South Atlantic Fishery Council's liaisons and the Regional Planning Body Report. The Council will also receive the Council's Executive Director's Report, the Science Report, and Committee Reports for the Executive Committee, Collaborative Research Committee, and the River Herring/Shad Committee, and discuss any continuing and/or new business.

Although other non-emergency issues not contained in this agenda may come before this Council for discussion, those issues may not be the subjects of formal action during this meeting. Council action will be restricted to those issues specifically listed in this notice and any issues arising after publication of this notice that require emergency action under section 305(c) of the Magnuson-Stevens act, provided that the public has been notified of the Council's intent to take final action to address the emergency.

Special Accommodations

This meeting is physically accessible to people with disabilities. Requests for sign language interpretation or other auxiliary aids should be directed to M. Jan Saunders, (302) 526-5251, at least 5 days prior to the meeting date.

Dated: November 16, 2015.
Tracey L. Thompson,
Acting Deputy Director, Office of Sustainable Fisheries, National Marine Fisheries Service.

[FR Doc. 2015-29547 Filed 11-18-15; 8:45 am]

BILLING CODE 3510-22-P